DEPARTMENT OF HOMELAND SECURITY

Federal Emergency Management Agency

44 CFR Part 67

[Docket ID FEMA-2008-0020; Internal Agency Docket No. FEMA-B-1075]

Proposed Flood Elevation Determinations

AGENCY: Federal Emergency Management Agency, DHS.

ACTION: Proposed rule; correction.

SUMMARY: On October 27, 2009, FEMA published in the Federal Register a proposed rule that contained an erroneous table. This notice provides corrections to that table, to be used in lieu of the information published at 74 FR 55168. The table provided here represents the flooding sources, location of referenced elevations, effective and modified elevations, and communities affected for Peoria County, Illinois, and Incorporated Areas. Specifically, it addresses the following flooding sources: Dry Run Creek, Illinois River, and Kickapoo Creek.

DATES: Comments are to be submitted on or before October 26, 2011.

ADDRESSES: You may submit comments, identified by Docket No. FEMA-B-1075, to Luis Rodriguez, Chief, Engineering Management Branch, Federal Insurance and Mitigation Administration, Federal Emergency Management Agency, 500 C Street SW., Washington, DC 20472, (202) 646-4064 or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064 or (e-mail) luis.rodriguez1@dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Corrections

In the proposed rule published at 74 FR 55168, in the October 27, 2009, issue of the Federal Register, FEMA published a table under the authority of 44 CFR 67.4. The table, entitled “Peoria County, Illinois, and Incorporated Areas” addressed the flooding source Illinois River. That table contained inaccurate information as to the location of referenced elevation, effective and modified elevation in feet, or communities affected for that flooding source. In addition, it did not include the flooding sources Dry Run Creek and Kickapoo Creek. In this notice, FEMA is publishing a table containing the accurate information, to address these prior errors. The information provided below should be used in lieu of that previously published.

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Peoria County, Illinois, and Incorporated Areas
Dry Run Creek | At the downstream side of Swords Avenue | None | +481 | City of West Peoria.
| At the upstream side of Park Road | None | +511
Illinois River | Approximately 0.57 mile upstream of Marsh Road | +455 | +454 | City of Chillicothe, City of Pekin, City of Peoria, Unincorporated Areas of Peoria County, Village of Bartonville, Village of Kingston Mines, Village of Mapleton.
| Approximately 1,400 feet upstream of Moffitt Street | None | +460
Kickapoo Creek | Approximately 60 feet downstream of Harmon Highway/State Route 116 | None | +473 | City of Peoria, City of West Peoria, Village of Bellevue.
| At the downstream side of Farmington Road | None | +480
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Chillicothe
Maps are available for inspection at 908 North 2nd Street, Chillicothe, IL 61523.
City of Pekin
Maps are available for inspection at City Hall, 111 South Capital Street, Pekin, IL 61554.
City of Peoria
Maps are available for inspection at 419 Fulton Street, Peoria, IL 61602.
City of West Peoria
Maps are available for inspection at 2506 West Rohmann Avenue, West Peoria, IL 61604.
Unincorporated Areas of Peoria County
Maps are available for inspection at the Peoria County Planning and Zoning Department, 324 Main Street, Room 301, Peoria, IL 61602.
Village of Bartonville
Maps are available for inspection at the Village Hall, 5912 South Adams Street, Bartonville, IL 61607.
Village of Bellevue
Maps are available for inspection at the Peoria County Planning and Zoning Department, 324 Main Street, Room 301, Peoria, IL 61602.
Village of Kingston Mines
Maps are available for inspection at the Peoria County Planning and Zoning Department, 324 Main Street, Room 301, Peoria, IL 61602.
Village of Mapleton
Maps are available for inspection at the Peoria County Planning and Zoning Department, 324 Main Street, Room 301, Peoria, IL 61602.

(Catalog of Federal Domestic Assistance No. 97.022, “Flood Insurance.”)

Dated: July 8, 2011.
Sandra K. Knight,
Deputy Federal Insurance and Mitigation Administrator, Mitigation, Department of Homeland Security, Federal Emergency Management Agency.

[FR Doc. 2011-19042 Filed 7-27-11; 8:45 am]

BILLING CODE 9110-12-P